DEPARTMENT OF DEFENSE

Office of the Secretary

Administrative Suspension of Table Rock Lake Oversight Committee

AGENCY: Department of Defense (DoD).

ACTION: Administrative suspension of Federal Advisory Committee.

SUMMARY: The DoD is publishing this notice to announce it is administratively suspending the Table Rock Lake Oversight Committee (“the Committee”) on September 7, 2021.

FOR FURTHER INFORMATION CONTACT: Jim Freeman, DoD Advisory Committee Management Officer, 703-692-5952.

SUPPLEMENTARY INFORMATION: The DoD, pursuant to section 1185(c) of the Water Infrastructure Improvements for the Nation Act (“the WIIN Act”) (Pub. L. 114-322) and in accordance with the Federal Advisory Committee Act (5 U.S.C., Appendix), established the Committee on July 10, 2019. After careful consideration, the DoD determined that the Committee's stated objectives are accomplished and administratively suspended the Committee effective September 7, 2021, pending rescission of Section 1185(c) of the WIIN Act. Information concerning the Committee, to include contact information for the Committee's Designated Federal Officer can be found at https://www.facadatabase.gov/FACA/FACAPublicPage.

Dated: October 15, 2021.
Aaron T. Siegel,
Alternate OSD Federal Register Liaison Officer, Department of Defense.

[FR Doc. 2021-22859 Filed 10-19-21; 8:45 am]

BILLING CODE 5001-06-P